DEPARTMENT OF COMMERCE

National Oceanic and Atmospheric Administration

Agency Information Collection Activities; Submission to the Office of Management and Budget (OMB) for Review and Approval; Comment Request; Alaska Region Crab Permits

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 20, 2023, during a 60-day comment period. This notice allows for an additional 30 days for public comments.

Agency: National Oceanic and Atmospheric Administration (NOAA), Commerce.

Title: Alaska Region Crab Permits.

OMB Control Number: 0648-0514.

Form Number(s): None.

Type of Request: Regular submission (extension of a current information collection).

Number of Respondents: 468.

Average Hours per Response: Application for Annual Crab IFQ Permit: 2.5 hours; Application for Annual Crab IPQ Permit: 2 hours; Application for Annual Crab Harvesting Cooperative IFQ Permit: 23 hours; Application for Registered Crab Receiver (RCR) Permit: 30 minutes; Application for BSAI Crab Hired Master (skipper) Permit: 1 hour; Application for Federal Crab Vessel Permit (FCVP): 20 minutes; Application for Transfer of Crab QS: 2 hours; Application for Transfer of Crab PQS: 2.5 hours; Application for Transfer (lease) of Crab IFQ: 2.5 hours; Application for Transfer of IFQ between Crab Harvesting Cooperatives: 2 hours; Application for Transfer (Lease) of Crab IPQ: 2.5 hours; Application for Converted CPO QS and CPO IFQ: 30 minutes; Application for CR Program Eligibility to Receive QS/PQS or IFQ/IPQ by Transfer: 2 hours; Application for Annual Exemption from Western Aleutian Islands Golden King Crab West Region Delivery Requirements: 2 hours; Application for Exemption from CR Crab North or South Region Delivery Requirements: 20 hours; North or South Region Delivery Exemption Report: 20 hours; Voluntary Community Impact Report or IPQ Holder Report (N or S Response Report): 2 hours; CDQ Group Notification of Community Representative: 5 hours; Application to Become an ECCO: 2.5 hours; Application for Transfer of Crab QS/IFQ to or from an ECCO: 2 hours; ECCO Annual Report: 4 hours; BSAI Crab Rationalization Program QS Beneficiary Designation Form: 30 minutes; File an Appeal to NMFS Decisions: 4 hours.

Total Annual Burden Hours: 1,450 hours.

Needs and Uses: The National Marine Fisheries Service (NMFS), Alaska Regional Office, is requesting extension of a currently approved information collection for the Crab Rationalization Program (CR Program).

This information collection is necessary for NMFS to manage the CR Program. The CR Program was implemented on April 1, 2005 (70 FR 10174, March 2, 2005). The CR Program is a limited access privilege program that allocates the harvest of crab fisheries managed under the Fishery Management Plan for Bering Sea and Aleutian Islands King and Tanner Crabs (FMP) among harvesters, processors, and coastal communities. Regulations implementing the FMP and the CR Program are at 50 CFR part 680. Information on the CR Program is posted on the NMFS Alaska Region website at https://www.fisheries.noaa.gov/alaska/sustainable-fisheries/bering-sea-and-aleutian-islands-crab-rationalization-program.

This information collection includes the forms used by participants in the CR Program to apply for or renew permits; transfer or lease individual fishing quota (IFQ), individual processor quota (IPQ), quota share (QS), or processor quota share (PQS); and apply for exemption from regional delivery requirements. This information collection also includes the following reports for which no collection forms are used:

• The Community Impact Report or IPQ Holder Report is submitted by a community entity or IPQ holder, respectively, and provides documentation needed by NMFS to evaluate the efficacy of privately administered contracts.

• The CDQ Group Notification of Community Representative is submitted by the Western Alaska Community Development Quota (CDQ) groups representing Saint Paul and Saint George to designate to NMFS a single entity as the regional representative for these two communities.

• The Eligible Crab Community Organization (ECCO) Annual Report is submitted by the ECCO. It details the use of the crab QS and IFQ and is intended to ensure that the ECCO maintains the QS and IFQ to benefit residents of eligible communities.

Affected Public: Individuals or households; Business or other for-profit organizations; Not-for-profit institutions.

Frequency: Annually; As needed.

Respondent's Obligation: Voluntary; Required to Obtain or Retain Benefits; Mandatory.

Legal Authority: Magnuson-Stevens Fishery Conservation and Management Act (16 U.S.C. 1801 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0514.

Sheleen Dumas,
Department PRA Clearance Officer, Office of the Under Secretary for Economic Affairs, Commerce Department.

[FR Doc. 2024-03944 Filed 2-26-24; 8:45 am]

BILLING CODE 3510-22-P